NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 1, 2002. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-837-3698 or by e-mail to records.mgt@nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Air Force, Agency-wide (N1-AFU-02-2, 2 items, 2 temporary items). Records relating to medical treatment of patients in ambulatory care facilities, including electronic copies of documents created using electronic mail and word processing.

2. Department of the Air Force, Agency-wide (N1-AFU-02-8, 3 items, 3 temporary items). Records pertaining to use of government purchase cards. Included are records relating to authorization and training of cardholders and to transactions under investigation or in dispute. Also included are electronic copies of documents created using electronic mail and word processing.

3. Department of the Air Force, Agency-wide (N1-AFU-02-13, 117 items, 117 temporary items). Electronic versions of temporary records relating to civil engineering. Included are electronic copies of documents created using electronic mail and word processing as well as electronic records that supplement or replace paper records already approved for disposal. Records relate to such matters as environmental planning, land use, civil engineering resources, real property management, housing, utility services, sanitation and custodial services, airfield pavement marking, snow removal, roof management, pest management, refrigeration, fire protection, disaster preparedness, and engineer readiness.

4. Department of the Army, Agency-wide (N1-AU-99-10, 3 items, 2 temporary items). Records relating to museum program management including such files as historical property catalog cards, property jackets, artifact bibliographies, field and working notes, exhibit information, and electronic copies of documents created using electronic mail and word processing. Recordkeeping copies of museum histories and correspondence are proposed for permanent retention. This schedule authorizes the agency to apply the proposed disposition instructions to any recordkeeping medium.

5. Department of the Army, Agency-wide (N1-AU-00-40, 2 items, 2 temporary items). Master file and outputs of the Central Site Artifact Management System, an electronic information system used to maintain accountability for all Army historical museum property. Records include such data as description of item, condition, donor, and location.

6. Department of the Army, Agency-wide (N1-AU-01-3, 2 items, 1 temporary item). Master file and outputs of the Environmental Compliance Assessment System, an electronic information system used to facilitate the tracking and reporting of Army environmental compliance. The system includes such data as installation identification, assessor information, assessment date, assessment type, protocol manuals used, suggested corrective action, and status of corrective action. Proposed for permanent retention are recordkeeping copies of final audit reports and annual assessment reports. This schedule also authorizes the agency to apply the proposed disposition instructions to any recordkeeping medium.

7. Department of the Army, Agency-wide (N1-AU-02-15, 4 items, 4 temporary items). Records relating to demilitarization and trade security controls of equipment and materiel. Included are demilitarization certificates for small arms and other surplus property, end user certificates, and trade security control files. Also included are electronic copies of documents created using electronic mail and word processing. This schedule authorizes the agency to apply the proposed disposition instructions to any recordkeeping medium.

8. Department of the Army, Agency-wide (N1-AU-02-16, 4 items, 4 temporary items). Records relating to utilities engineering activities. Included are reports and other records relating to the operation and maintenance of plants and systems as well as records relating to the management of solid wastes, water, and wastewater. Also included are electronic copies of documents created using electronic mail and word processing. This schedule increases the retention period of utilities operating manuals and logbooks relating to plants and systems, which were previously approved for disposal, and authorizes the agency to apply the proposed disposition instructions to any recordkeeping medium.

9. Department of the Army, Agency-wide (N1-AU-02-17, 2 items, 2 temporary items). Records relating to appointments of certifying accountable officials, including acceptance memorandums and related forms. Also included are electronic copies of documents created using electronic mail and word processing. This schedule authorizes the agency to apply the proposed disposition instructions to any recordkeeping medium.

10. Department of the Army, Agency-wide (N1-AU-02-18, 3 items, 3 temporary items). Records relating to officer separation proceedings, including individual discharge cases, discharge board proceedings, and notifications of administrative board waivers. Also included are electronic copies of documents created using electronic mail and word processing. This schedule increases the retention period of officer separation proceedings on individuals confined by foreign civil authorities, which were previously approved for disposal, and authorizes the agency to apply the proposed disposition instructions to any recordkeeping medium.

11. Department of the Army, Agency-wide (N1-AU-02-19, 3 items, 3 temporary items). Records relating to intrusions into classified and unclassified automated information systems, including security incident reports and audit trail and event logs. Also included are electronic copies of documents created using electronic mail and word processing. This schedule authorizes the agency to apply the proposed disposition instructions to any recordkeeping medium.

12. Department of Justice, Environment and Natural Resources Division (N1-60-02-3, 4 items, 3 temporary items). Subject, reference, and working files of Special Assistants to Assistant Attorneys General and Deputy Assistant Attorneys General. Also included are electronic copies of documents created using electronic mail and word processing. Proposed for permanent retention are recordkeeping copies of subject, project, and correspondence files of the Deputy Assistant Attorneys General.

13. Department of Veterans Affairs, Office of the Inspector General (N1-15-01-6, 4 items, 4 temporary items). Routine investigative case files, which include reports, correspondence, and electronic copies of documents created using electronic mail and word processing. Files relating to investigations that attract national media or congressional attention or result in significant changes in agency policies or procedures will be appraised by the National Archives and Records Administration on a case-by-case basis.

14. Environmental Protection Agency, Office of Environmental Information (N1-412-02-7, 5 items, 5 temporary items). Records relating to an electronic system that that is used to create, route, track, and process agency-specific forms as well as Government-wide standard forms. Included are software programs, electronic data, a tracking database, and system documentation.

Dated: May 9, 2002.
Michael J. Kurtz,
Assistant Archivist for Record Services, Washington, DC.

[FR Doc. 02-12244 Filed 5-15-02; 8:45 am]

BILLING CODE 7515-01-P